FEDERAL RESERVE SYSTEM

Change in Bank Control Notices; Acquisitions of Shares of a Savings and Loan Holding Company

The notificants listed below have applied under the Change in Bank Control Act (“Act”) (12 U.S.C. 1817(j)) and of the Board's Regulation LL (12 CFR 238.31) to acquire shares of a savings and loan holding company. The factors that are considered in acting on the notices are set forth in paragraph 7 of the Act (12 U.S.C. 1817(j)(7)).

The applications listed below, as well as other related filings required by the Board, if any, are available for immediate inspection at the Federal Reserve Bank indicated. The applications also will be available for inspection at the offices of the Board of Governors. Interested persons may express their views in writing on the standards enumerated in paragraph 7 of the Act.

Comments regarding each of these applications must be received at the Reserve Bank indicated or the offices of the Board of Governors, Ann E. Misback, Secretary of the Board, 20th and Constitution Avenue NW, Washington, DC 20551-0001, not later than February 20, 2020.

A. Federal Reserve Bank of Chicago (Colette A. Fried, Assistant Vice President) 230 South LaSalle Street, Chicago, Illinois 60690-1414:

1. Cascade Investment, L.L.C., Kirkland, Washington, and sole member William H. Gates III, Medina, Washington; to retain over 10 percent of the voting shares of Deere & Company Inc., Moline, Illinois, and thereby indirectly retain over 10 percent of the voting shares of John Deere Financial, F.S.B., Madison, Wisconsin.

Board of Governors of the Federal Reserve System, January 30, 2020.
Ann Misback,
Secretary of the Board.

[FR Doc. 2020-02121 Filed 2-3-20; 8:45 am]

BILLING CODE P